DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of its Security, OMB Control Number 1910-1800. This information collection package covers information necessary for DOE management to exercise management oversight and control over their contractors. The collections consist of information (1) for the nuclear materials control and accountability for DOE-owned and—leased facilities and DOE-owned nuclear materials at other facilities that are exempt from licensing by the NRC; (2) for the protection of classified information, special nuclear materials and other national security assets (DOE site self-assessments and site security plans); and (3) on DOE Federal and contractors traveling to foreign countries; for tracking and recording background information on foreign nationals having access to DOE facilities and information; and collection of Foreign Ownership, Control or Influence data from bidders on DOE contracts requiring personnel security clearances.

DATES: Comments regarding this collection must be received on or before October 24, 2005. If you anticipate that you will be submitting comments, but find it difficult to do so within the period of time allowed by this notice, please advise the OMB Desk Officer of your intention to make a submission as soon as possible. The Desk Officer may be telephoned at 202-395-4650.

ADDRESSES: Written comments should be sent to: DOE Desk Officer, Office of Information and Regulatory Affairs, Office of Management and Budget, New Executive Office Building, Room 10102, 735 17th Street, NW., Washington, DC 20503.

Comments should also be addressed to: Sharon A. Evelin, Director, IM-11/Germantown Bldg., U.S. Department of Energy, 1000 Independence Ave SW., Washington, DC 20585-1290, and to: Kathy Murphy, SP-1.22 Germantown Building, U.S. Department of Energy, 19901 Germantown Road, Germantown, Maryland 20874-1290.

FOR FURTHER INFORMATION CONTACT: Sharon A. Evelin and Kathy Murphy, at the addresses listed above in ADDRESSES.

SUPPLEMENTARY INFORMATION: This package contains: (1) OMB No.: 1910-1800; (2) Package Title: Security (3) Purpose: for DOE management to exercise management oversight and control over their contractors; (4) Estimated Number of Respondents: 39,136; (5) Estimated Total Burden Hours: 249,955; (6) Number of Collections: The package contains fourteen (14) information and/or recordkeeping requirements.

Statutory Authority: Department of Energy Organization Act, Public Law 95-91, of August 4, 1977.

Sharon A. Evelin,
Director, Records Management Division, Office of the Chief Information Officer.

[FR Doc. 05-19038 Filed 9-22-05; 8:45 am]

BILLING CODE 6450-01-P